DEPARTMENT OF THE INTERIOR

Bureau of Ocean Energy Management, Regulation and Enforcement

[Docket ID No. BOEM-2010-0061]

BOEMRE Information Collection Activity: 1010-0183, Information Requirements for Exploration Plans, Development and Production Plans, and Development Operations Coordination Documents on the OCS NTL, Renewal of a Collection; Submitted for Office of Management and Budget (OMB) Review; Comment Request

AGENCY: Bureau of Ocean Energy Management, Regulation and Enforcement (BOEMRE), Interior.

ACTION: Notice of extension of an information collection (1010-0183).

SUMMARY: To comply with the Paperwork Reduction Act of 1995 (PRA), we are notifying the public that we have submitted to OMB an information collection request (ICR) to renew approval of the paperwork requirements in the regulations under 30 CFR 250, Subpart b, Plans and Information, and related documents. The collection was originally approved by OMB under an emergency request. This notice also provides the public a second opportunity to comment on the paperwork burden of these regulatory requirements.

DATES: Submit written comments by January 10, 2011.

ADDRESSES: Submit comments by either fax (202) 395-5806 or e-mail OIRA_DOCKET@omb.eop.gov directly to the Office of Information and Regulatory Affairs, OMB, Attention: Desk Officer for the Department of the Interior (1010-0183). Please also submit a copy of your comments to BOEMRE by any of the means below.

• Electronically: go to http://www.regulations.gov. In the entry titled “Enter Keyword or ID,” enter BOEM-2010-0061 then click search. Follow the instructions to submit public comments and view supporting and related materials available for this collection. BOEMRE will post all comments.

• E-mail cheryl.blundon@mms.gov. Mail or hand-carry comments to: Department of the Interior; Bureau of Ocean Energy Management, Regulation and Enforcement; Attention: Cheryl Blundon; 381 Elden Street, MS-4024; Herndon, Virginia 20170-4817. Please reference ICR 1010-0183 in your comment and include your name and return address.

FOR FURTHER INFORMATION CONTACT: Cheryl Blundon, Regulations and Standards Branch, (703) 787-1607. You may also contact Cheryl Blundon to obtain a copy, at no cost, of the regulations and the NTL that require the subject collection of information.

SUPPLEMENTARY INFORMATION: Title: 30 CFR 250, Subpart b, Plans and Information.

OMB Control Number: 1010-0183.

Abstract: The Outer Continental Shelf (OCS) Lands Act, as amended (43 U.S.C. 1331 et seq. and 43 U.S.C. 1801 et seq.), authorizes the Secretary of the Interior (Secretary) to prescribe rules and regulations to manage the mineral resources of the OCS. Such rules and regulations will apply to all operations conducted under a lease, right-of-use and easement, and pipeline right-of-way. Operations on the OCS must preserve, protect, and develop oil and natural gas resources in a manner that is consistent with the need to make such resources available to meet the Nation's energy needs as rapidly as possible; to balance orderly energy resource development with protection of human, marine, and coastal environments; to ensure the public a fair and equitable return on the resources of the OCS; preserve and maintain free enterprise competition; and ensure that the extent of oil and natural gas resources of the OCS is assessed at the earliest practicable time. Section 43 U.S.C. 1332(6) states that “operations in the outer Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

To carry out these responsibilities, the Bureau of Ocean Energy Management, Regulation and Enforcement (BOEMRE) issues regulations to ensure that operations in the OCS will meet statutory requirements; provide for safety and protect the environment; and result in diligent exploration, development, and production of OCS leases. In addition, we also issue Notices to Lessees and Operators (NTLs) that provide clarification, explanation, and interpretation of our regulations. These NTLs are also used to convey purely informational material and to cover situations that might not be adequately addressed in our regulations. The latter is the case for the information collection required by the subject NTL.

The subject of this ICR is an NTL based on the recommendations in the May 27, 2010, Report from the Secretary of the Interior to the President of the United States, Increased Safety Measures for Energy Development on the Outer Continental Shelf (Report). BOEMRE issued this NTL for lessees and operators to comply with the requirements and recommendations of the report as a result of the Deepwater Horizon accident and subsequent oil spill in the Gulf of Mexico. The primary information collection requirements for OCS plans are 30 CFR 250, subpart B, approved under OMB Control Number 1010-0151. However, in connection with this subpart, BOEMRE believes that the paperwork burden in complying with the NTL is in addition to that currently approved for subpart B. We are renewing the collection for 3 years because the additional information required by the NTL needs to be collected for a longer period than allowed by the original emergency OMB request.

Regulations implementing requirements for exploration, production, and development plans are under 30 CFR 250, subpart B. Responses are mandatory. No questions of a sensitive nature are asked. BOEMRE protects proprietary information according to the Freedom of Information Act (5 U.S.C. 552) and its implementing regulations (43 CFR 2), 30 CFR 250.197, Data and information to be made available to the public for limited inspection, and 30 CFR 252, OCS Oil and Gas Information Program.

The Deepwater Horizon event is one of national significance that included the deaths of 11 people and significantly harmed the marine ecosystem, wildlife, and property along the Gulf Coast. These events highlight the importance of ensuring safe operations on the OCS.

BOEMRE will use this information, as well as other information and analyses, to comprehensively assess what changes may be needed to BOEMRE program-wide requirements. BOEMRE will review the data submitted to analyze future activities under Exploration Plans, Development and Production Plans, and Development Operations Coordination Documents.

Frequency: On occasion.

Description of Respondents: Potential respondents comprise Federal oil and gas lessees and operators.

Estimated Reporting and Recordkeeping Hour Burden: We expect to receive 517 responses from the lessees and operators. We estimate the total annual reporting and recordkeeping burden is 9,952 (rounded) annual burden hours (517 responses × 19.25 hours per response = 9,952 annual burden hours).

Estimated Reporting and Recordkeeping Non-Hour Cost Burden: We have identified no paperwork non-hour cost burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on September 7, 2010, we published a Federal Register notice (75 FR 54370) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by January 10, 2011.

Public Availability of Comments: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: November 18, 2010.
William S. Hauser, Acting Chief,
Office of Offshore Regulatory Programs.

[FR Doc. 2010-30964 Filed 12-8-10; 8:45 am]

BILLING CODE 4310-MR-P